DEPARTMENT OF THE INTERIOR

National Park Service

[NPS-WASO-NAGPRA-11059; 2200-1100-665]

Notice of Inventory Completion: U.S. Department of Defense, Army, Fort Sill Museum, Lawton, OK

AGENCY: National Park Service, Interior.

ACTION: Notice.

SUMMARY: The U.S. Department of Defense, Army, Fort Sill Museum, with the U.S. Army Corps of Engineers, St. Louis District, has completed an inventory of human remains and associated funerary objects in consultation with the appropriate Indian tribe, and has determined that there is a cultural affiliation between the human remains and associated funerary objects and a present-day Indian tribe. Representatives of any Indian tribe that believes itself to be culturally affiliated with the human remains and associated funerary objects may contact the Fort Sill Museum. Repatriation of the human remains and associated funerary objects to the Indian tribe stated below occurred on April 12, 2004.

DATES: Representatives of any Indian tribe that believes it has a cultural affiliation with the human remains and associated funerary objects should contact the Fort Sill Museum at the address below by October 17, 2012.

ADDRESSES: Scott A. Neel, Ph.D., Director, Fort Sill National Historic Landmark and Museum, U.S. Army Fires Center of Excellence, Fort Sill, OK 73503, telephone (580) 442-6570.

SUPPLEMENTARY INFORMATION: Notice is hereby given in accordance with the Native American Graves Protection and Repatriation Act (NAGPRA), 25 U.S.C. 3003, of the completion of an inventory of human remains and associated funerary objects in the possession of the Fort Sill Museum. The human remains and associated funerary objects were removed from Comanche County, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and funerary objects was made by professional staff from the Fort Sill Museum and the U.S. Army Corps of Engineers, St. Louis District, in consultation with representatives of the Comanche Nation, Oklahoma.

History and Description of the Remains

In November 1969, human remains representing, at minimum, one individual were removed from the Jared site (34CM221) in Comanche County, OK. The burial was excavated by staff from the Museum of the Great Plains, OK, and representatives of Fort Sill. Following the excavation, Dr. Clyde Snow, Chief of the Physical Anthropology Section at the Federal Aviation Administration's Civil Areomedical Institute in Oklahoma City, examined the skeletal remains, and determined the remains to be one female, age 25-35 years. No known individuals were identified. The human remains and funerary objects were stored at the Fort Sill Museum. The 1,581 associated funerary objects are 1 horse trapping, 3 metal rings, 2 metal rivets, 17 metal nails, 53 metal bracelets, 1 metal pail, 1,500 glass beads, 1 bone bead, 2 fragments of animal bone, and 1 leather/cloth fragment.

Based on examination, the burial dates to between 1869 and 1890. The skeleton was determined to be Native American based on skeletal morphology, diagnostic metric traits, burial context, and artifact associations. The burial was located in the bed of a ravine and covered with large flat stones. The archaeological evidence, including the burial context and funerary associations, support a cultural affiliation to the Comanche tribe. The size, design, and decoration of bracelets, rivets, and buttons found with this burial are similar to those found in burials of known Comanche origin. Additionally, ethnographic and historic reports include the use of ravine burials in that area by the Comanche, while also reporting that the Kiowa did not use such burial places.

The Comanche were a Shoshonean group originally residing along the upper Yellowstone and Platte Rivers. Around the beginning of the eighteenth century, they began to migrate onto the Southern Plains, between the Apache to the west and the Pawnee and Wichita to the east. After 1750, the geographic area of present day Fort Sill was increasingly controlled by the Comanche and the Kiowa. In 1834, a major U.S. expedition into the Southern Plains, the Dragoon Expedition, made contact with Comanche villages located in the vicinity of Medicine Bluff and Medicine Creek, near the present-day site of Fort Sill. In 1867, a land cession gave the Kiowa and Comanche a reservation in Oklahoma that included the area near Fort Sill. Fort Sill was established in 1869, with the Kiowa Comanche Indian Agency outside the gate of the Fort. Fort Sill was expanded in 1897 with 27,000 acres of land from the Kiowa Comanche reservation, in order to accommodate incoming Apache prisoners. Finally, the reservation land was open to allotments in 1901, with 160 acres of land allotted to each Native American inhabitant. The Comanche chose the lands in the south near Fort Sill, with the Kiowa choosing settlements in the north. Archaeological, anthropological, historical, and geographical lines of evidence support a cultural affiliation with the Comanche tribe.

Determinations Made by the U.S. Department of Defense, Army, Fort Sill Museum

Officials of the Fort Sill Museum have determined that:

• Pursuant to 25 U.S.C. 3001(9), the human remains described in this notice represent the physical remains of one individual of Native American ancestry.

• Pursuant to 25 U.S.C. 3001(3)(A), the 1,581 objects described above are reasonably believed to have been placed with or near individual human remains at the time of death or later as part of the death rite or ceremony.

• Pursuant to 25 U.S.C. 3001(2), there is a relationship of shared group identity that can be reasonably traced between the Native American human remains and associated funerary objects and the Comanche Nation.

Additional Requestors and Disposition

Representatives of any Indian tribe that believes itself to be culturally affiliated with the human remains and associated funerary objects should contact Scott A. Neel, Director, Fort Sill National Historic Landmark and Museum, U.S. Army Fires Center of Excellence, Fort Sill, OK 73503, telephone (580) 442-6570, before October 17, 2012. On April 12, 2004, the human remains and associated funerary objects from the Jared site (34CM221) were repatriated to the Comanche Nation.

The Fort Sill Museum is responsible for notifying the Comanche Nation, Oklahoma, that this notice has been published.

Dated: August 10, 2012.
Melanie O'Brien,
Acting Manager, National NAGPRA Program.

[FR Doc. 2012-22747 Filed 9-14-12; 8:45 am]

BILLING CODE 4312-50-P